LEGAL SERVICES CORPORATION

Notice of Intent To Award—Grant Awards for the Delivery of Civil Legal Services to Eligible Low-Income Clients Beginning January 1, 2025

AGENCY: Legal Services Corporation.

ACTION: Announcement of the Legal Services Corporation's intent to make fiscal year 2025 grant awards.

SUMMARY: The Legal Services Corporation (LSC) hereby announces its intention to award grants to provide effective and efficient delivery of high-quality civil legal services to eligible low-income clients, starting January 1, 2025.

DATES: All comments and recommendations must be received on or before the close of business on December 9, 2024.

ADDRESSES: Basic Field Grant Awards, Legal Services Corporation, 1825 I St. NW, Suite 800, Washington, DC 20006.

FOR FURTHER INFORMATION CONTACT: Christine Williams, Program Manager for Basic Field Competition, Office of Program Performance, at (202) 295-1602 or williamsc@lsc.gov.

SUPPLEMENTARY INFORMATION: Under LSC's Notice of Funding Availability published on March 14, 2024 (89 FR 18674) and LSC's grant application process beginning on April 14, 2024, LSC intends to award funds to organizations that provide civil legal services in the indicated service areas. Applicants for each service area are listed below. The grant award amounts below are estimates based on the FY2024 grant awards to each service area. The funding estimates may change based on the final FY2025 appropriation. In addition, Agricultural Worker service area population estimates are subject to change based on Department of Labor review and comments LSC receives during the 30-day comment period.

LSC will post all updates and changes to this notice at https://www.lsc.gov/grants/basic-field-grant/basic-field-awards. Interested parties are asked to visit https://www.lsc.gov/grants/basic-field-grant regularly for updates on the LSC grants process.

Name of applicant organization | State | Service area | Estimated annualized 2025 funding
Alaska Legal Services Corporation | AK | AK-1 | $1,164,808
Legal Services Alabama, Inc | AL | AL-4 | 8,750,973
Legal Aid of Arkansas, Inc | AR | AR-6 | 2,032,378
Center for Arkansas Legal Services | AR | AR-7 | 3,059,342
American Samoa Legal Aid | AS | AS-1 | 314,015
DNA-Peoples Legal Services, Inc | AZ | AZ-2 | 611,384
Community Legal Services, Inc | AZ | AZ-3 | 6,707,899
Southern Arizona Legal Aid, Inc | AZ | AZ-5 | 2,929,853
California Indian Legal Services, Inc | CA | CA-1 | 24,495
Inland Counties Legal Services, Inc | CA | CA-12 | 6,091,858
Legal Aid Society of San Diego, Inc | CA | CA-14 | 3,461,331
Community Legal Aid SoCal | CA | CA-19 | 4,477,012
Greater Bakersfield Legal Assistance, Inc | CA | CA-2 | 1,696,585
Central California Legal Services | CA | CA-26 | 3,763,684
Legal Services of Northern California, Inc | CA | CA-27 | 5,019,313
Bay Area Legal Aid | CA | CA-28 | 6,077,900
Legal Aid Foundation of Los Angeles | CA | CA-29 | 7,146,969
Neighborhood Legal Services of Los Angeles County | CA | CA-30 | 5,601,424
California Rural Legal Assistance, Inc | CA | CA-31 | 6,483,119
Colorado Legal Services | CO | CO-6 | 6,040,901
Statewide Legal Services of Connecticut, Inc | CT | CT-1 | 4,212,822
Neighborhood Legal Services Program of the District of Columbia | DC | DC-1 | 1,079,960
Legal Services Corporation of Delaware, Inc | DE | DE-1 | 1,223,573
Legal Services of North Florida, Inc | FL | FL-13 | 2,227,254
Three Rivers Legal Services, Inc | FL | FL-14 | 3,382,885
Community Legal Services of Mid-Florida, Inc | FL | FL-15 | 6,898,210
Bay Area Legal Services, Inc | FL | FL-16 | 5,280,016
Florida Rural Legal Services, Inc | FL | FL-17 | 5,864,861
Coast to Coast Legal Aid of South Florida, Inc | FL | FL-18 | 3,336,864
Legal Services of Greater Miami, Inc | FL | FL-5 | 4,335,324
Atlanta Legal Aid Society, Inc | GA | GA-1 | 5,183,192
Georgia Legal Services Program | GA | GA-2 | 11,432,892
Micronesian Legal Services Corporation | GU | GU-1 | 348,737
Legal Aid Society of Hawaii | HI | HI-1 | 1,967,206
Iowa Legal Aid | IA | IA-3 | 3,854,750
Idaho Legal Aid Services, Inc | ID | ID-1 | 1,851,318
Land of Lincoln Legal Aid, Inc | IL | IL-3 | 3,525,538
Legal Aid Chicago | IL | IL-6 | 7,748,398
Prairie State Legal Services, Inc | IL | IL-7 | 5,353,610
Indiana Legal Services, Inc | IN | IN-5 | 9,535,954
Kansas Legal Services, Inc | KS | KS-1 | 3,790,590
Legal Aid of the Bluegrass | KY | KY-10 | 2,039,664
Legal Aid Society | KY | KY-2 | 2,166,654
Appalachian Research and Defense Fund of Kentucky | KY | KY-5 | 2,282,338
Kentucky Legal Aid | KY | KY-9 | 1,741,089
Southeast Louisiana Legal Services Corporation | LA | LA-13 | 4,843,304
Acadiana Legal Service Corporation | LA | LA-15 | 4,774,162
Community Legal Aid, Inc | MA | MA-10 | 2,498,686
Volunteer Lawyers Project of the Boston Bar Association | MA | MA-11 | 2,978,618
South Coastal Counties Legal Services | MA | MA-12 | 1,579,769
Northeast Legal Aid, Inc | MA | MA-4 | 1,234,941
Community Legal Services, Inc | AZ | MAZ | 487,788
California Rural Legal Assistance, Inc | CA | MCA | 4,571,473
Colorado Legal Services | CO | MCO | 321,278
Maryland Legal Aid | MD | MD-1 | 6,656,508
Maryland Legal Aid | DE | MDE | 33,732
Pine Tree Legal Assistance, Inc | ME | ME-1 | 1,554,224
Florida Rural Legal Services, Inc | FL | MFL | 1,042,718
Georgia Legal Services Program | GA | MGA | 713,016
Michigan Advocacy Program | MI | MI-12 | 2,445,571
Lakeshore Legal Aid | MI | MI-13 | 6,213,347
Legal Services of Eastern Michigan | MI | MI-14 | 2,270,726
Legal Aid of Western Michigan | MI | MI-15 | 2,885,740
Legal Services of Northern Michigan, Inc | MI | MI-9 | 1,199,133
Iowa Legal Aid | IA | MIA | 310,274
Idaho Legal Aid Services, Inc | ID | MID | 444,915
Legal Aid Chicago | IL | MIL | 288,935
Indiana Legal Services, Inc | IN | MIN | 204,672
Maryland Legal Aid | MD | MMD | 152,206
Michigan Advocacy Program | MI | MMI | 718,716
Southern Minnesota Regional Legal Services, Inc | MN | MMN | 552,260
Legal Aid of Western Missouri | MO | MMO | 213,321
Montana Legal Services Association | MT | MMT | 179,939
Pine Tree Legal Assistance, Inc | ME | MMX-1 | 393,989
Legal Aid Service of Northeastern Minnesota | MN | MN-1 | 590,043
Legal Services of Northwest Minnesota Corporation | MN | MN-4 | 530,440
Southern Minnesota Regional Legal Services, Inc | MN | MN-5 | 2,149,346
Central Minnesota Legal Services, Inc | MN | MN-6 | 2,351,480
Legal Aid of North Carolina, Inc | NC | MNC | 819,300
Southern Minnesota Regional Legal Services, Inc | ND | MND | 144,610
Legal Aid of Nebraska | NE | MNE | 247,544
South Jersey Legal Services, Inc | NJ | MNJ | 180,507
New Mexico Legal Aid | NM | MNM | 215,564
Legal Aid Society of Mid-New York, Inc | NY | MNY | 391,497
Legal Aid of Western Missouri | MO | MO-3 | 2,730,859
Legal Services of Eastern Missouri, Inc | MO | MO-4 | 2,713,284
Mid-Missouri Legal Services Corporation | MO | MO-5 | 649,748
Legal Services of Southern Missouri | MO | MO-7 | 2,233,446
Legal Aid of Western Ohio, Inc | OH | MOH | 251,513
Legal Aid Services of Oklahoma, Inc | OK | MOK | 345,613
Legal Aid Services of Oregon | OR | MOR | 644,790
Micronesian Legal Services Corporation | MP | MP-1 | 1,874,768
Philadelphia Legal Assistance Center | PA | MPA | 486,158
Puerto Rico Legal Services, Inc | PR | MPR | 72,608
Mississippi Center for Legal Services | MS | MS-10 | 3,433,299
North Mississippi Rural Legal Services, Inc | MS | MS-9 | 2,265,149
South Carolina Legal Services, Inc | SC | MSC | 319,726
Texas RioGrande Legal Aid, Inc | TX | MSX-2 | 3,398,860
Montana Legal Services Association | MT | MT-1 | 1,359,362
Utah Legal Services, Inc | UT | MUT | 127,323
Central Virginia Legal Aid Society, Inc | VA | MVA | 365,814
Northwest Justice Project | WA | MWA | 1,197,930
Legal Action of Wisconsin, Inc | WI | MWI | 555,641
Alaska Legal Services Corporation | AK | NAK-1 | 815,380
DNA-Peoples Legal Services, Inc | AZ | NAZ-5 | 3,934,252
Southern Arizona Legal Aid, Inc | AZ | NAZ-6 | 961,025
Legal Aid of North Carolina, Inc | NC | NC-5 | 15,181,463
California Indian Legal Services, Inc | CA | NCA-1 | 1,332,026
Colorado Legal Services | CO | NCO-1 | 144,793
Pine Tree Legal Assistance, Inc | CT | NCT-1 | 23,604
Legal Services of North Dakota | ND | ND-3 | 731,026
Legal Aid of Nebraska | NE | NE-4 | 2,148,835
603 Legal Aid | NH | NH-1 | 1,124,426
Legal Aid Society of Hawaii | HI | NHI-1 | 345,365
Idaho Legal Aid Services, Inc | ID | NID-1 | 97,951
Legal Services of Northwest Jersey, Inc | NJ | NJ-15 | 758,392
Central Jersey Legal Services, Inc | NJ | NJ-17 | 1,869,464
Northeast New Jersey Legal Services Corporation | NJ | NJ-18 | 2,814,627
South Jersey Legal Services, Inc | NJ | NJ-20 | 3,514,627
Essex-Newark Legal Services Project, Inc | NJ | NJ-8 | 1,378,205
DNA-Peoples Legal Services, Inc | NM | NM-1 | 284,496
New Mexico Legal Aid | NM | NM-5 | 3,871,837
Pine Tree Legal Assistance, Inc | ME | NME-1 | 97,177
Michigan Indian Legal Services, Inc | MI | NMI-1 | 248,191
Anishinabe Legal Services, Inc | MN | NMN-1 | 360,310
Mississippi Center for Legal Services | MS | NMS-1 | 125,327
Montana Legal Services Association | MT | NMT-1 | 240,065
Legal Aid of North Carolina, Inc | NC | NNC-1 | 329,047
Legal Services of North Dakota | ND | NND-3 | 406,131
Legal Aid of Nebraska | NE | NNE-1 | 49,837
DNA-Peoples Legal Services, Inc | NM | NNM-2 | 34,254
New Mexico Legal Aid | NM | NNM-4 | 700,532
Nevada Legal Services, Inc | NV | NNV-1 | 200,483
Oklahoma Indian Legal Services, Inc | OK | NOK-1 | 1,234,480
Legal Aid Services of Oregon | OR | NOR-1 | 278,321
Dakota Plains Legal Services, Inc | SD | NSD-1 | 1,407,733
Texas RioGrande Legal Aid, Inc | TX | NTX-1 | 47,187
Utah Legal Services, Inc | UT | NUT-1 | 124,037
Nevada Legal Services, Inc | NV | NV-1 | 4,476,668
Northwest Justice Project | WA | NWA-1 | 429,491
Judicare Legal Aid | WI | NWI-1 | 233,875
Legal Aid of Wyoming, Inc | WY | NWY-1 | 260,534
Legal Services of the Hudson Valley | NY | NY-20 | 3,001,759
Legal Aid Society of Northeastern New York, Inc | NY | NY-21 | 2,223,558
Legal Aid Society of Mid-New York, Inc | NY | NY-22 | 2,492,329
Legal Assistance of Western New York, Inc | NY | NY-23 | 2,582,642
Neighborhood Legal Services, Inc | NY | NY-24 | 2,032,390
Nassau/Suffolk Law Services Committee, Inc | NY | NY-7 | 2,058,921
Legal Services NYC | NY | NY-9 | 17,270,072
Legal Aid Society of Greater Cincinnati | OH | OH-18 | 2,369,019
Community Legal Aid Services, Inc | OH | OH-20 | 2,943,543
The Legal Aid Society of Cleveland | OH | OH-21 | 3,178,825
Legal Aid of Western Ohio, Inc | OH | OH-23 | 4,160,123
Legal Aid of Southeast and Central Ohio | OH | OH-24 | 5,215,678
Legal Aid Services of Oklahoma, Inc | OK | OK-3 | 7,080,042
Legal Aid Services of Oregon | OR | OR-6 | 5,362,107
Philadelphia Legal Assistance Center | PA | PA-1 | 3,532,146
Legal Aid of Southeastern Pennsylvania | PA | PA-23 | 2,249,087
North Penn Legal Services, Inc | PA | PA-24 | 3,094,290
MidPenn Legal Services, Inc | PA | PA-25 | 3,765,838
Northwestern Legal Services | PA | PA-26 | 912,334
Summit Legal Aid | PA | PA-27 | 1,632,271
Neighborhood Legal Services Association | PA | PA-8 | 2,127,050
Puerto Rico Legal Services, Inc | PR | PR-1 | 14,540,452
Community Law Office, Inc | PR | PR-2 | 300,331
Rhode Island Legal Services, Inc | RI | RI-1 | 1,347,809
South Carolina Legal Services, Inc | SC | SC-8 | 8,299,079
East River Legal Services | SD | SD-2 | 664,495
Dakota Plains Legal Services, Inc | SD | SD-4 | 576,919
Legal Aid Society of Middle Tennessee and the Cumberlands | TN | TN-10 | 4,486,365
Memphis Area Legal Services, Inc. or West Tennessee Legal Services, Inc | TN | TN-4 | 2,111,084
West Tennessee Legal Services, Inc | TN | TN-7 | 1,079,731
Legal Aid of East Tennessee | TN | TN-9 | 3,660,807
Lone Star Legal Aid | TX | TX-13 | 18,089,444
Legal Aid of NorthWest Texas | TX | TX-14 | 13,205,098
Texas RioGrande Legal Aid, Inc | TX | TX-15 | 15,932,266
Utah Legal Services, Inc | UT | UT-1 | 3,480,646
Southwest Virginia Legal Aid Society, Inc | VA | VA-15 | 1,153,314
Legal Aid Society of Eastern Virginia | VA | VA-16 | 2,165,801
Virginia Legal Aid Society, Inc | VA | VA-17 | 1,236,048
Central Virginia Legal Aid Society, Inc | VA | VA-18 | 1,788,548
Blue Ridge Legal Services, Inc | VA | VA-19 | 1,290,767
Legal Services of Northern Virginia, Inc | VA | VA-20 | 2,250,194
Legal Services of the Virgin Islands, Inc | VI | VI-1 | 229,321
Legal Services Vermont | VT | VT-1 | 648,871
Northwest Justice Project | WA | WA-1 | 8,222,810
Judicare Legal Aid | WI | WI-2 | 1,367,428
Legal Action of Wisconsin, Inc | WI | WI-5 | 5,392,184
Legal Aid of West Virginia, Inc | WV | WV-5 | 3,388,941
Legal Aid of Wyoming, Inc | WY | WY-4 | 762,624

These grants will be awarded under the authority conferred on LSC by section 1006(a)(1) of the Legal Services Corporation Act, 42 U.S.C. 2996e(a)(l). Grant awards are made to ensure civil legal services are provided in every service area, although no listed organization is guaranteed a grant award. Grants will become effective, and grant funds will be distributed, on or about January 1, 2025.

LSC issues this notice pursuant to 42 U.S.C. 2996f(f). Comments and recommendations concerning potential grantees are invited and should be delivered to LSC within 30 days from the date of publication of this notice.

(Authority: 42 U.S.C. 2996f(f).)

Dated: November 5, 2024.
Stefanie Davis,
Deputy General Counsel, Legal Services Corporation.

[FR Doc. 2024-26004 Filed 11-7-24; 8:45 am]

BILLING CODE 7050-01-P